DEPARTMENT OF THE INTERIOR

Bureau of Land Management

[CA-670-1220-00 PD; G0-00]

Notice of Supplementary Rule for Public Lands in California

AGENCY: Bureau of Land Management, El Centro Field Office, California Desert District, Interior.

ACTION: Camping closure of selected Federal Lands, Imperial County, CA.

SUMMARY: The Bureau of Land Management's (BLM) El Centro Field Office is issuing a supplementary camping closure rule. This rule is being issued to protect the flat-tailed horned lizard and will apply to public lands along the entire length of Kane Spring Road within Imperial County, CA.

FOR FURTHER INFORMATION CONTACT: Lynnette Elser, Resources Branch Chief, 1661 So. 4th St., El Centro, CA 92243 (760) 337-4420.

SUPPLEMENTARY INFORMATION:

I. Discussion of the Supplementary Rule

This rule is needed to support the Decision Record for the Western Colorado Desert Routes of Travel Designation (WECO ROT) Plan. Stakeholders participated in the development of this plan and have had opportunity to provide comments on this supplementary rule through the development of the WECO ROT Plan. This rule is final upon publication and applies to public lands within: SBM, T.12S., R.10E., Secs. 26, 33, 34, 35; T.12S., R.11E., Secs. 20, 30; T.13S., R.10E., Secs. 3, 4, 5, 6.

II. Procedural Matters

Executive Order 12630, Governmental Actions and Interference With Constitutionally Protected Property Rights (Takings)

This rule does not represent a government action capable of interfering with Constitutionally-protected property rights. It is simply a ban on certain conduct that has implications to natural and cultural resource protection. Therefore, the Department of the Interior has determined that this rule will not cause a taking of private property or require further discussion of takings implications under this Executive Order.

Executive Order 13132, Federalism [Replaces Executive Orders 12612 and 13083]

This rule will not have a substantial direct effect on the States, on the relationship between the national government and the States, or on the distribution of power and responsibilities among the various levels of government. This rule does not come into conflict with any State law or regulation. Therefore, in accordance with Executive Order 13132, BLM has determined that this rule does not have sufficient Federalism implications to warrant preparation of a Federalism Assessment.

Executive Order 12988, Civil Justice Reform

Under Executive Order 12988, the Office of the Solicitor has determined that this rule would not unduly burden the judicial system and that it meets the requirements of sections 3(a) and 3(b)(2) of the Order.

Executive Order 13175, Consultation and Coordination With Indian Tribal Governments [Replaces Executive Order 13084]

In accordance with Executive Order 13175, we have found that this rule does not include policies that have tribal implications. None of the lands included in this rule affects Indian lands or Indian Rights. Coordination was conducted through preparation of the WECO ROT Plan with all affected tribes.

Paperwork Reduction Act

This rule does not contain information collection requirements that the Office of Management and Budget must approve under the Paperwork Reduction Act of 1995, 44 U.S.C. 3501 et seq. The information collection requirements contained in the proposed rule are exempt from the provisions of the Paperwork Reduction Act of 1995, 44 U.S.C. 3518(c)(1). Federal criminal investigations or prosecutions may result from this rule and are exempt from the Paperwork Reduction Act.

Authors

The principal author of this rule is Chief Ranger Robert Zimmer.

Supplementary Rule

Under 43 CFR 8365.1-6, the Bureau of Land Management will enforce the following rule on public lands in Imperial County, CA, El Centro Field Office, California Desert District. A more detailed explanation as to the need for such a rule may be found in the Western Colorado Desert Routes of Travel Designation Decision Record signed January 31, 2003.

You must follow this rule:

1. No person may camp on public lands located along either side of Kane Spring Road (Route T670084) within Imperial County, CA. This rule applies to public lands within: SBM, T.12S., R.10E., Secs. 26, 33, 34, 35; T.12S., R.11E., Secs. 20, 30; T.13S., R.10E., Secs. 3, 4, 5, 6.

Penalties

Under section 303(a) of the Federal Land Policy and Management Act of 1976 (43 U.S.C. 1733(a)) and 43 CFR 8360.0-7 if you violate this supplementary rule on public lands within the boundaries established in the rule, you may be tried before a United States Magistrate and fined no more than $1,000 or imprisoned for no more than 12 months, or both. Such violations may also be subject to the enhanced fines provided for by 18 U.S.C. 3571.

Dated: December 29, 2003.
J. Anthony Danna,
Acting California State Director.

Editorial Note: This document was received in the Office of the Federal Register on April 6, 2004.

[FR Doc. 04-8148 Filed 4-9-04; 8:45 am]

BILLING CODE 4392-68-P